DEPARTMENT OF TRANSPORTATION

Federal Aviation Administration

14 CFR Part 39

[Docket No. FAA-2011-0998; Directorate Identifier 2011-NM-046-AD; Amendment 39-17042; AD 2012-09-07]

RIN 2120-AA64

Airworthiness Directives; Airbus Airplanes

AGENCY: Federal Aviation Administration (FAA), Department of Transportation (DOT).

ACTION: Final rule.

SUMMARY: We are adopting a new airworthiness directive (AD) for certain Airbus Model A319-111, -112, and -132 airplanes; Model A320-111, -211, -212, -214 and -232 airplanes; and Model A321-111, -211, -212, and -231 airplanes. This AD was prompted by reports that corrosion was found on the overwing refueling aperture on the top wing skin, and that for certain airplanes, repairs made using primer coating may prevent proper electrical bonding provision between the overwing refueling cap adaptor and the wing skin. This AD requires performing an electrical bonding test between the gravity fill re-fuel adaptor and the top skin panels on the left-hand and right-hand wings, and if necessary performing a general visual inspection for corrosion of the component interface and adjacent area, and repairing the gravity fuel adaptor if any corrosion is found. We are issuing this AD to detect and correct corrosion and improper bonding, which in combination with a lightning strike in this area, could create a source of ignition in a fuel tank, resulting in a fire or explosion, and consequent loss of the airplane.

DATES: This AD becomes effective June 18, 2012.

The Director of the Federal Register approved the incorporation by reference of a certain publication listed in this AD as of June 18, 2012.

ADDRESSES: You may examine the AD docket on the Internet at http://www.regulations.gov or in person at the U.S. Department of Transportation, Docket Operations, M-30, West Building Ground Floor, Room W12-140, 1200 New Jersey Avenue SE., Washington, DC.

FOR FURTHER INFORMATION CONTACT: Sanjay Ralhan, Aerospace Engineer, International Branch, ANM-116, Transport Airplane Directorate, FAA, 1601 Lind Avenue SW., Renton, Washington 98057-3356; telephone (425) 227-1405; fax (425) 227-1149.

SUPPLEMENTARY INFORMATION:

Discussion

We issued a notice of proposed rulemaking (NPRM) to amend 14 CFR part 39 to include an AD that would apply to the specified products. That NPRM was published in the Federal Register on October 5, 2011 (76 FR 61641). That NPRM proposed to require correct an unsafe condition for the specified products. The MCAI states:

Cases of corrosion findings have been reported on the overwing refueling aperture (used to fill the fuel tank by gravity) on the wing top skin. The reported corrosion was on the mating surface of the aperture flange, underneath the refuel adaptor. Corrosion findings have been repaired on a case by case basis in accordance with approved data.

For certain aeroplanes (identified by MSN in the applicability section of this [European Aviation Safety Agency (EASA)] AD, the provided repair contained instructions to apply primer coating on the mating surface. Since doing those repairs, it has been found that this primer coating may prevent proper electrical bonding provision between the overwing refuelling cap adaptor and the wing skin.

This condition, if not corrected, could, in combination with a lightning strike in this area, create a source of ignition in a fuel tank, possibly resulting in a fire or explosion and consequent loss of the aeroplane.

For the reasons described above, this [EASA] AD requires a one-time electrical bonding check between the gravity fill re-fuel adaptor and the top skin panels on the affected aeroplanes and, in case of findings [a general visual inspection for corrosion of the component interface and adjacent area], the application of the associated corrective actions [i.e. repair].

You may obtain further information by examining the MCAI in the AD docket.

Comments

We gave the public the opportunity to participate in developing this AD. We have considered the comments received.

Request To Permit a Ferry Flight

US Airways stated that there currently is no fly-back allowance in the NPRM (76 FR 61641, October 5, 2011). US Airways also stated that this makes it difficult for airlines to schedule the inspection quickly, which is the most desirable situation.

We infer that US Airways is requesting a ferry flight permit. We partially agree with this request. Unless otherwise specified in the AD, special flight permits are currently allowed under section 39.23 of the Federal Aviation Regulations (14 CFR 39.23). No change is therefore necessary to the AD regarding this issue.

Request That the FAA Accept Published Service Repair Manual (SRM) Repairs as an FAA-Approved Corrective Action for Compliance With the AD

US Airways stated that it asked Airbus to provide an SRM repair for expected findings, and that it has been informed by Airbus that a repair design was expected to be published in the February 2012 revision of the SRM. US Airways requested that a statement in the final rule be added to acknowledge that published SRM repairs are a FAA-approved corrective action for the proposed AD (76 FR 61641, October 5, 2011).

We partially agree with US Airways' request. We understand US Airways' concern regarding the unavailability of repair procedures and its effect on their scheduling of repairs since a discrepancy requires repair before further flight. However, we cannot provide approval of future SRM repairs in an AD by using the phrase, “or later FAA-approved revisions,” because it violates the Office of the Federal Register regulations for approving materials that are incorporated by reference. However, we consider that service information (including SRM repair) approved by EASA (or its delegated agent) is equivalent to FAA-approved corrective action for this AD, if it meets the certification basis of the affected airplanes and mitigates the unsafe condition addressed in this AD. We have not changed this AD in this regard.

Request To Revise the Costs of Compliance

United Airlines requested that the “Costs of Compliance” section of the NPRM (76 FR 61641, October 5, 2011) be revised. United Airlines stated that under the “Costs of Compliance” section in the NPRM, an estimate of 6 work-hours is specified to comply with the NPRM. United Airlines stated that Airbus Service Bulletin A320-57-1152, dated June 14, 2010, specifies a total of 12.5 work-hours to accomplish this inspection. United Airlines stated that Airbus Service Bulletin A320-57-1152, dated June 14, 2010, provides a more accurate representation of the work-hours required for this task, and it requests that the FAA justify its proposed estimate of 6 work-hours required to comply with the NPRM.

In addition, United Airlines stated that, when accomplishing paragraph (g)(2) of the NPRM (76 FR 61641, October 5, 2011), which requires performing a general visual inspection for corrosion if the resistance value is greater than 10 milliOhms, the operator is directed to section. 3.C.(2) of the Accomplishment Instructions, Subtask 571152-832-401-001—Removal of Primer—Inspection for Corrosion, of Airbus Service Bulletin A320-57-1152, dated June 14, 2010. United Airlines stated that this subtask's “Manpower Resources” chart specifies that it takes “5 man-hours and 2.5 hours elapsed time” to complete that part of that service bulletin, and that under this subtask, Step (a), among other actions, requires defueling and venting of the two fuel tanks. United Airlines also stated that operator experience has shown that this procedure alone takes about “8 man-hours and 4 hours of elapsed time.” United Airlines stated it understands that it is not standard practice to propose manufacturers' service bulletin changes through the FAA, but it would like to offer a more accurate estimate of at least “10 man-hours and 6 hours elapsed time,” in accordance with the Accomplishment Instructions of Airbus Service Bulletin A320-57-1152, dated June 14, 2010.

We agree with United Airlines' request to revise the “Costs of Compliance” section of this AD. We have clarified the “Costs of Compliance” section by estimating that it would take about 2 work-hours to perform the initial action (electrical bonding test). In addition, we have estimated that it would take about 12 work-hours to perform the follow-on actions (inspection for corrosion and repair). We have changed this AD accordingly.

Conclusion

We reviewed the available data, including the comments received, and determined that air safety and the public interest require adopting the AD as proposed-except for minor editorial changes. We have determined that these minor changes:

• Are consistent with the intent that was proposed in the NPRM (76 FR 61641, October 5, 2011) for correcting the unsafe condition; and

• Do not add any additional burden upon the public than was already proposed in the NPRM (76 FR 61641, October 5, 2011).

Costs of Compliance

We estimate that this AD will affect 67 products of U.S. registry. We also estimate that it will take about 2 work-hours per product to comply with the basic requirements (electrical bonding test) of this AD. The average labor rate is $85 per work-hour. Based on these figures, we estimate the cost of this AD to the U.S. operators to be $11,390, or $170 per product.

In addition, we estimate that any necessary follow-on actions (inspection for corrosion and repair) would take about 12 work-hours and require parts costing $0, for a cost of $1,020 per product. We have no way of determining the number of products that may need these actions.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

We prepared a regulatory evaluation of the estimated costs to comply with this AD and placed it in the AD docket.

Examining the AD Docket

You may examine the AD docket on the Internet at http://www.regulations.gov; or in person at the Docket Operations office between 9 a.m. and 5 p.m., Monday through Friday, except Federal holidays. The AD docket contains the NPRM (76 FR 61641, October 5, 2011), the regulatory evaluation, any comments received, and other information. The street address for the Docket Operations office (telephone (800) 647-5527) is in the ADDRESSES section. Comments will be available in the AD docket shortly after receipt.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2012-09-07 Airbus: Amendment 39-17042. Docket No. FAA-2011-0998; Directorate Identifier 2011-NM-046-AD.

(a) Effective Date

This airworthiness directive (AD) becomes effective June 18, 2012.

(b) Affected ADs

None.

(c) Applicability

This AD applies to Airbus Model A319-111, -112, and -132 airplanes; Model A320-111, -211, -212, -214 and -232 airplanes; and Model A321-111, -211, -212, and -231 airplanes; certificated in any category; having manufacturer serial numbers 0039, 0078, 0109, 0118, 0120, 0153, 0174, 0187, 0203, 0215, 0218, 0226, 0227, 0228, 0236, 0237, 0269, 0270, 0278, 0285, 0286, 0287, 0288, 0294, 0301, 0337, 0377, 0462, 0463, 0464, 0465, 0520, 0523, 0528, 0876, 0888, 0921, 0935, 0974, 1014, 1102, 1130, 1160, 1162, 1177, 1215, 1250, 1287, 1336, 1388, 1404, 1444, 1449, 1476, 1505, 1524, 1564, 1605, 1616, 1622, 1640, 1645, 1658, 1677, 1691, 1729, and 1905.

(d) Subject

Air Transport Association (ATA) of America Code 57: Wings.

(e) Reason

This AD was prompted by reports that corrosion was found on the overwing refueling aperture on the top wing skin, and that for certain airplanes, repairs made using primer coating may prevent proper electrical bonding provision between the overwing refueling cap adaptor and the wing skin. We are issuing this AD to detect and correct corrosion and improper bonding, which in combination with a lightning strike in this area, could create a source of ignition in a fuel tank, resulting in a fire or explosion, and consequent loss of the airplane.

(f) Compliance

You are responsible for having the actions required by this AD performed within the compliance times specified, unless the actions have already been done.

(g) Electrical Bonding Test and General Visual Inspection if Necessary

Within 24 months after the effective date of this AD, do an electrical bonding test to check for bonding between the re-fuel adaptor of the gravity fill and the top skin panels on the left-hand and right-hand wings, in accordance with the Accomplishment Instructions of Airbus Service Bulletin A320-57-1152, dated June 14, 2010.

(1) If the resistance value is 10 milliOhms or less at the left-hand and right-hand wing, no further action is required.

(2) If the resistance value is greater than 10 milliOhms at the left-hand or right-hand wing, before further flight, do a general visual inspection for corrosion of the component interface and adjacent area, in accordance with the Accomplishment Instructions of Airbus Service Bulletin A320-57-1152, dated June 14, 2010. If any corrosion is found during the inspection, before further flight, repair the gravity fill fuel adaptor, in accordance with the Accomplishment Instructions of Airbus Service Bulletin A320-57-1152, dated June 14, 2010; except where Airbus Service Bulletin A320-57-1152, dated June 14, 2010, specifies to contact Airbus, before further flight, repair using a method approved by the Manager, International Branch, ANM-116, Transport Airplane Directorate, FAA; or the European Aviation Safety Agency (EASA) (or its delegated agent).

(h) Other FAA AD Provisions

The following provisions also apply to this AD:

(1) Alternative Methods of Compliance (AMOCs): The Manager, International Branch, ANM-116, FAA, has the authority to approve AMOCs for this AD, if requested using the procedures found in 14 CFR 39.19. In accordance with 14 CFR 39.19, send your request to your principal inspector or local Flight Standards District Office, as appropriate. If sending information directly to the International Branch, send it to ATTN: Sanjay Ralhan, Aerospace Engineer, International Branch, ANM-116, Transport Airplane Directorate, FAA, 1601 Lind Avenue SW., Renton, Washington 98057-3356; telephone (425) 227-1405; fax (425) 227-1149. Information may be emailed to: 9-ANM-116-AMOC-REQUESTS@faa.gov. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

(i) Related Information

Refer to MCAI EASA Airworthiness Directive 2011-0034, dated March 2, 2011; and Airbus Service Bulletin A320-57-1152, dated June 14, 2010; for related information.

(j) Material Incorporated by Reference

(1) You must use the following service information to do the actions required by this AD, unless the AD specifies otherwise. The Director of the Federal Register approved the incorporation by reference (IBR) of the following service information under 5 U.S.C. 552(a) and 1 CFR part 51:

(i) Airbus Service Bulletin A320-57-1152, dated June 14, 2010.

(2) For service information identified in this AD, contact Airbus, Airworthiness Office—EAS, 1 Rond Point Maurice Bellonte, 31707 Blagnac Cedex, France; telephone +33 5 61 93 36 96; fax +33 5 61 93 44 51; email account.airworth-eas@airbus.com; Internet http://www.airbus.com.

(3) You may review copies of the service information at the FAA, Transport Airplane Directorate, 1601 Lind Avenue SW., Renton, Washington. For information on the availability of this material at the FAA, call 425-227-1221.

(4) You may also review copies of the service information that is incorporated by reference at the National Archives and Records Administration (NARA). For information on the availability of this material at an NARA facility, call 202-741-6030, or go to http://www.archives.gov/federal_register/code_of_federal_regulations/ibr_locations.html.

Issued in Renton, Washington, on April 30, 2012.
Michael Kaszycki,
Acting Manager, Transport Airplane Directorate, Aircraft Certification Service.

[FR Doc. 2012-11027 Filed 5-11-12; 8:45 am]

BILLING CODE 4910-13-P